DEPARTMENT OF TRANSPORTATION

Federal Aviation Administration

14 CFR Part 71

[Docket No. FAA-2207-29055; Airspace Docket 07-ASO-19]

Proposed Amendment of Class D and E Airspace; Jacksonville Cecil Field, FL

AGENCY: Federal Aviation Administration (FAA), DOT.

ACTION: Notice of proposed rulemaking.

SUMMARY: This notice proposes to amend the Class D airspace and establish E4 airspace at Jacksonville Cecil Field, FL. As a result of an evaluation, it has been determined the Class D airspace should be reduced and Class E4 airspace should be established for Jacksonville Cecil Field F Airport. Additional controlled airspace is necessary for the safety and management of Instrument Flight rules (IFR) operations at Jacksonville Cecil Field Airport.

DATES: Comments must be received on or before January 24, 2008.

ADDRESSES: Send comments on this proposal to the Docket Management Facility, U.S. Department of Transportation, Docket Operations, M-30, 1200 New Jersey Ave., SE., West Building, Ground Floor, Room W12-140, Washington, DC 20590; telephone 1-800-647-5527. You must identify the docket number FAA-2007-29055/Airspace Docket No. 07-ASO-19, at the beginning of your comments. You may also submit comments on the Internet at http://www.regulations.gov. You may review the public docket containing the proposal, any comments received, and any final disposition in person in the Dockets Office (see Addresses section for address and phone number) between 9 a.m. and 5 p.m., Monday through Friday, except Federal holidays.

An informal docket may also be examined during normal business hours at the office of the Eastern Service Center, Federal Aviation Administration, Room 210, 1701 Columbia Avenue, College Park, Georgia 30337.

FOR FURTHER INFORMATION CONTACT: Melinda Giddens, System Support, Eastern Service Center, Federal Aviation Administration, P.O. Box 20636, Atlanta, Georgia 30320; telephone (404) 305-5610.

SUPPLEMENTARY INFORMATION:

Comment Invited

Interested parties are invited to participate in this proposed rulemaking by submitting such written data, views or arguments as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenter wishing the FAA to acknowledge receipt of their comments on this notice must submit with those comments a self-addressed, stamped postcard on which the following statement is made: “Comments to Docket No. FAA-2007-29055/Airspace Docket No. 07-ASO-19.” The postcard will be date/time stamped and returned to the commenters. All communications received before the specified closing date for comments will be considered before taking action on the proposed rule. The proposal contained in this notice may be changed in light of the comments received. A report summarizing each substantive public contact with FAA personnel concerned with this rulemaking will be filed in the docket.

Availability of NPRMs

An electronic copy of this document may be downloaded through the Internet at http://www.regulations.gov. Recently published rulemaking documents can also be accessed through the FAA's Web page at http://www.faa.gov or the Federal Register's Web page at http://www.gpoaccess.gov/fr/index.html. Persons interested in being placed on a mailing list for future NPRM's should contact the FAA's Office of Rulemaking, (202) 267-9677, to request a copy of Advisory Circular No. 11-2A, Notice of Proposed Rulemaking Distribution System, which describes the application procedure.

The Proposal

The FAA is considering an amendment to Title 14, Code of Federal Regulations (14 CFR) part 71 to amend Class D and establish Class E airspace at Jacksonville Cecil Field, FL. The current Class D airspace supporting IFR operations can be reduced and E4 airspace established to contain operations at Jacksonville Cecil Field Airport. This proposed action would provide the additional controlled airspace, extending upward from the surface to support the VHF Omnidirectional Range (VOR) Runway (RWY) 9 Standard Instrument Approach Procedure (SIAP) at Jacksonville Cecil Field. Class D and E4 airspace designations for airspace areas extending upward from the surface of the earth are published in Paragraphs 5000 and 6000 of FAA Order 7400.9R, dated August 15, 2007, and effective September 15, 2007, which is incorporated by reference in 14 CFR 71.1. The Class D and E4 airspace designations listed in this document would be published subsequently in the Order.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of airspace necessary to ensure the safety of aircraft and the efficient use of airspace. This regulation is within the scope of that authority as it establishes Class E4 airspace at Cecil Field in Jacksonville, FL.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§71.1 [Amended]

2. The incorporation by reference in 14 CFR 71.1 of Federal Aviation Administration Order 7400.9R, Airspace Designations and Reporting Points, dated August 15, 2007, and effective September 15, 2007, is amended as follows:

Paragraph 5000 Class D Airspace.

* * * * *

ASO FL D Jacksonville Cecil Field, FL [Revised]

Cecil Field, FL

(Lat. 30°13′07″ N, long. 81°52′36″ W)

Herlong Airport

(Lat. 30°16′40″ N, long. 81°48′21″ W)

That airspace extending upward from the surface, to and including 2,600 feet MSL, within a 4.3-mile radius of Cecil Field; excluding that airspace within the Jacksonville NAS Class D airspace area and that airspace within the Jacksonville Whitehouse Class D airspace area and that airspace within a 1.8-mile radius of Herlong Airport. This Class D airspace area is effective during the specific days and times established in advance by a Notice to Airmen. The effective days and times will thereafter be continuously published in the Airport/Facility Directory.

* * * * *

Paragraph 6004 Class E Airspace Areas Designated as an Extension to a Class D Surface Area.

* * * * *

ASO FL E4 Jacksonville Cecil Field, FL [NEW]

Cecil Field, FL

(Lat. 30°13′07″ N, long. 81°52′36″ W)

Cecil VOR

(Lat. 30°12′47″ N, long. 81°53′27″ W)

That airspace extending upward from the surface, to and including 1,900 feet MSL, within 2.4 miles each side of the Cecil VOR 286° radial extending from the 4.3-mile radius to 7 miles west of the VOR. This Class E airspace area is effective during the specific days and times established in advance by a Notice to Airmen. The effective days and times will thereafter be continuously published in the Airport/Facility Directory.

* * * * *

Issued in College Park, Georgia, on November 9, 2007.
Barry A. Knight,
Acting Manager, System Support Group, Eastern Service Center.

[FR Doc. 07-5984 Filed 12-7-07; 8:45 am]

BILLING CODE 4910-13-M